DEPARTMENT OF THE TREASURY

Submission for OMB Review; Comment Request

March 21, 2007.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before April 25, 2007 to be assured of consideration.

Internal Revenue Service (IRS)

OMB Number: 1545-0768.

Type of Review: Extension.

Title: EE-178-78 Final (TD 7898) Employers Qualified Educational Assistance Programs.

Description: Respondents include employers who maintain education assistance programs for their employees. Information verifies that programs are qualified and that employees may exclude educational assistance from their gross incomes.

Respondents: Businesses and other for-profit insitutions.

Estimated Total Burden Hours: 615 hours.

OMB Number: 1545-2033.

Type of Review: Extension.

Title: Notice 2006-83, Chapter 11 Bankruptcy Cases.

Description: The IRS needs bankruptcy estates and individual chapter 11 debtors to allocate post-petition income and tax withholding between the estate and the debtor. The IRS will use the information in administering the internal revenue laws. Respondents will be individual debtors and their bankruptcy estates for chapter 11 cases filed after October 16, 2005.

Respondents: Individuals or households.

Estimated Total Burden Hours: 1,500 hours.

OMB Number: 1545-0949.

Type of Review: Revision.

Title: Application for Special Enrollment Examination.

Form: 2587.

Description: This information relates to the determination of the eligibility of individuals seeking enrollment status to practice before the Internal Revenue Service.

Respondents: Individuals or households.

Estimated Total Burden Hours: 11,000 hours.

Clearance Officer: Glenn P. Kirkland (202) 622-3428, Internal Revenue Service, Room 6516, 1111 Constitution Avenue, NW., Washington, DC 20224.

OMB Reviewer: Alexander T. Hunt (202) 395-7316, Office of Management and Budget, Room 10235, New Executive Office Building, Washington, DC 20503.

Robert Dahl,
Treasury PRA Clearance Officer.

[FR Doc. E7-5462 Filed 3-23-07; 8:45 am]

BILLING CODE 4830-01-P